NUCLEAR REGULATORY COMMISSION

10 CFR Part 72

[NRC-2017-0089]

RIN 3150-AK03

List of Approved Spent Fuel Storage Casks: Holtec International HI-STORM Flood/Wind Multipurpose Canister Storage System, Certificate of Compliance No. 1032, Amendment No. 3

AGENCY: Nuclear Regulatory Commission.

ACTION: Direct final rule; confirmation of effective date.

SUMMARY: The U.S. Nuclear Regulatory Commission (NRC) is confirming the effective date of September 11, 2017, for the direct final rule that was published in the Federal Register on June 28, 2017. This direct final rule amended NRC's spent fuel storage regulations by revising the “List of Approved Spent Fuel Storage Casks” to include Amendment No. 3 to Certificate of Compliance (CoC) No. 1032 for the Holtec International (Holtec) HI-STORM Flood/Wind (FW) Multipurpose Canister (MPC) Storage System.

DATES: Effective Date: The effective date of September 11, 2017, for the direct final rule published June 28, 2017 (82 FR 29225), is confirmed.

ADDRESSES: Please refer to Docket ID NRC-2017-0089 when contacting the NRC about the availability of information for this action. You may obtain publicly-available information related to this action by any of the following methods:

• Federal Rulemaking Web site: Go to http://www.regulations.gov and search for Docket ID NRC-2017-0089. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

FOR FURTHER INFORMATION CONTACT: Vanessa Cox, Office of Nuclear Material Safety and Safeguards, U.S. Nuclear Regulatory Commission, Washington, DC 20555-0001; telephone: 301-415-8342 or email: Vanessa.Cox@nrc.gov.

SUPPLEMENTARY INFORMATION: On June 28, 2017 (82 FR 29225), the NRC published a direct final rule amending its regulations in part 72 of title 10 of the Code of Federal Regulations to revise the Holtec HI-STORM FW MPC Storage System listing within the “List of Approved Spent Fuel Storage Casks” to include Amendment No. 3 to CoC No. 1032. Amendment No. 3 revises authorized contents to allow burnup credit for fuel types in the MPC-37 and revises CoC Condition 8, which has been previously incorporated in Amendment No. 2 to CoC No. 1032. In the direct final rule, the NRC stated that if no significant adverse comments were received, the direct final rule would become effective on September 11, 2017. The NRC did not receive any comments on the direct final rule. Therefore, this direct final rule will become effective as scheduled. The final CoC, Technical Specifications, and Safety Evaluation Report can be viewed in ADAMS under Package Accession No. ML17214A039.

Dated at Rockville, Maryland, this 29th day of August, 2017.
For the Nuclear Regulatory Commission.
Cindy Bladey,
Chief, Rules, Announcements, and Directives Branch, Division of Administrative Services, Office of Administration.

[FR Doc. 2017-18699 Filed 9-1-17; 8:45 am]

BILLING CODE 7590-01-P